DEPARTMENT OF EDUCATION

National Institute on Disability and Rehabilitation Research

AGENCY: Office of Special Education and Rehabilitative Services, Department of Education.

ACTION: Notice of Final Funding Priorities for Fiscal Years (FY) 2001-2002 for two Rehabilitation Research Training Centers.

SUMMARY: We announce final funding priorities for FY 2001-2002 for two Rehabilitation Research Training Centers (RRTC) under the National Institute on Disability and Rehabilitation Research (NIDRR): Improving Vocational Rehabilitation (VR) Services for Individuals Who Are Blind or Have Severe Visual Impairments and Improving Vocational Rehabilitation (VR) Services for Individuals Who Are Deaf or Hard of Hearing. We take this action to focus research attention on areas of national need. We intend these priorities to improve the rehabilitation services and outcomes for individuals with disabilities.

DATES: These priorities take effect on August 6, 2001.

FOR FURTHER INFORMATION CONTACT: Donna Nangle. Telephone: (202) 205-5880. Individuals who use a telecommunications device for the deaf (TDD) may call the TDD number at (202) 205-4475. Internet: Donna.Nangle@ed.gov.

Individuals with disabilities may obtain this document in an alternative format (e.g., Braille, large print, audiotape, or computer diskette) on request to the contact person listed in the preceding paragraph.

SUPPLEMENTARY INFORMATION: The final priorities refer to NIDRR's Long-Range Plan (the Plan). The Plan can be accessed on the World Wide Web at: http://www.ed.gov/offices/OSERS/NIDRR/#LRP.

National Education Goals

The eight National Education Goals focus the Nation's education reform efforts and provide a framework for improving teaching and learning.

This notice addresses the National Education Goal that every adult American will be literate and will possess the knowledge and skills necessary to compete in a global economy and exercise the rights and responsibilities of citizenship.

Authority

The authority for the program to establish research priorities by reserving funds to support particular research activities is contained in sections 202(g) and 204 of the Rehabilitation Act of 1973, as amended (29 U.S.C. 762(g) and 764(b)). Regulations governing this program are found in 34 CFR part 350.

Note: This notice does not solicit applications. A notice inviting applications is published in this issue of the Federal Register.

Analysis of Comments and Changes

On April 25, 2001, we published a notice of proposed priorities in the Federal Register (66 FR 20866). The Department of Education received nine letters commenting on the notice of proposed priorities by the deadline date. Technical and other minor changes—and suggested changes that we are not legally authorized to make under statutory authority—are not addressed.

RRTC on Improving Vocational Rehabilitation Services for Individuals Who Are Blind or Have Severe Visual Impairments

Comment: One commenter suggested that language in the priority requiring the development of a national information and resource referral base be expanded to include a comprehensive on-line information and resource referral data base with a special emphasis on the training needs of State Business Enterprise program facilities.

Discussion: NIDRR believes that an applicant should be allowed discretion in its development of the required database. The current language allows for such discretion, and does not preclude an applicant from developing a national information and resource referral database whose scope of activities extends beyond but is not limited to the training needs of State Business Enterprise program facilities. An applicant could propose a more comprehensive information and resource referral database as part of its specified project plan. The merits of an expanded plan would be subject to evaluation through the application panel review process.

Changes: None.

Comment: One commenter suggested that the title of the priority be changed from the “RRTC on Rehabilitation of Persons Who Are Blind or Visually Impaired” to “Improving Vocational Rehabilitation Services for Individuals Who Are Blind or Have Severe Visual Impairments” to reflect better the stated emphasis of the RRTC on the conduct of vocational rehabilitation focused research and training activities.

Discussion: NIDRR agrees with the commenter that the priority emphasizes the conduct of activities that have a clear focus on improving vocational rehabilitation services for individuals who are blind or have severe visual impairments.

Change: The title of the priority has been changed to “Improving Vocational Rehabilitation Services for Individuals Who Are Blind or Have Severe Visual Impairments”.

Comment: A commenter recommended that an applicant be encouraged to work with the current NIDRR-funded RRTCs that have an employment focus in its conduct of the related research required in the priority.

Discussion: The priority requires the RRTC, in consultation with the NIDRR project officer, to coordinate with appropriate Federally funded projects and to identify other relevant NIDRR-funded projects for collaborative activities.

Change: None.

RRTC on Improving Vocational Rehabilitation (VR) Services for Individuals Who Are Deaf or Hard of Hearing

Comment: One commenter noted that there is a continuing need for research on tinnitus, which frequently accompanies hearing loss, and expressed an interest in seeing an RRTC program specific to the needs of this population.

Discussion: NIDRR is sensitive to the research needs of this population and will consider the research needs of persons with tinnitus in future NIDRR planning.

Changes: None.

Comment: One commenter felt that the population parameters proposed for this RRTC are too broad and include, actually, two different populations. The commenter also suggested focusing the proposed RRTC on the substantial needs of persons who are prelingually or culturally deaf or both, including those who are referred to as low-functioning. The respondent further noted that the employment and personal adjustment issues of persons who are hard of hearing or late deafened has been and should continue to be the focus of a different NIDRR-RRTC with that specific focus. Finally, the commenter suggested that the overlap in the two distinctly different target populations is unnecessary, and helps to “muddy the waters” on the very different characteristics and needs of and services to the two different populations. Two other respondents also felt that the needs of the hard of hearing differ significantly from those of persons who are deaf and that the service needs of the two populations should not be mingled.

Discussion: NIDRR appreciates the range of different needs within the diverse population referred to as “deaf or hard of hearing.” It is noted, however, that this priority deals primarily with the Vocational Rehabilitation (VR) and employment aspects of rehabilitation for these populations and, while other aspects are expected to be weighted in determining the client's VR needs, the primary issue addressed is entry or reentry into the labor market.

Changes: None.

Comment: Internal Department of Education review noted that the title of the other RRTC in this notice has been changed to read “Improving Vocational Rehabilitation Services for Individuals Who Are Blind or Have Severe Visual Impairments” and raised the question if this RRTC title should also be changed.

Discussion: NIDRR agrees with the commenter that the priority emphasizes the conduct of activities that have a clear focus on improving vocational rehabilitation services for individuals who are deaf or hard of hearing.

Change: The title of the priority has been changed to “Improving Vocational Rehabilitation Services for Individuals Who Are Deaf or Hard of Hearing”.

Authority for Rehabilitation Research and Training Centers

The authority for the RRTC program is contained in section 204(b)(2) of the Rehabilitation Act of 1973, as amended (29 U.S.C. 764(b)(2)). Under this program the Secretary makes awards to public and private organizations, including institutions of higher education and Indian tribes or tribal organizations, for coordinated research and training activities. These entities must be of sufficient size, scope, and quality to effectively carry out the activities of the Center in an efficient manner consistent with appropriate State and Federal laws. They must demonstrate the ability to carry out the training activities either directly or through another entity that can provide that training. The Secretary may make awards for up to 60 months through grants or cooperative agreements. The purpose of the awards is to support planning and conducting research, training, demonstrations, and related activities leading to the development of methods, procedures, and devices that will benefit individuals with disabilities, especially those with the most severe disabilities.

Description of Rehabilitation Research and Training Centers

RRTCs are operated in collaboration with institutions of higher education or providers of rehabilitation services or other appropriate services. RRTCs serve as centers of national excellence and as national or regional resources for providers and individuals with disabilities and the parents, family members, guardians, advocates, or authorized representatives of the individuals.

RRTCs conduct coordinated, integrated, and advanced programs of research in rehabilitation targeted toward the production of new knowledge to improve rehabilitation methodology and service delivery systems, to alleviate or stabilize disabling conditions, and to promote maximum social and economic independence of individuals with disabilities.

RRTCs provide training, including graduate, pre-service, and in-service training, to assist individuals to more effectively provide rehabilitation services. They also provide training including graduate, pre-service, and in-service training, for rehabilitation research personnel and other rehabilitation personnel.

RRTCs serve as informational and technical assistance resources to providers, individuals with disabilities, and the parents, family members, guardians, advocates, or authorized representatives of these individuals through conferences, workshops, public education programs, in-service training programs and similar activities.

RRTCs disseminate materials in alternative formats to ensure that they are accessible to individuals with a range of disabling conditions.

NIDRR encourages all Centers to involve individuals with disabilities and individuals from minority backgrounds as recipients of research training, as well as clinical training.

The Department is particularly interested in ensuring accountability for the expenditure of public funds, will monitor the execution of intended activities and the advancement of knowledge and, has built this accountability into the selection criteria. To assist in program compliance with the Government Performance Results Act (GPRA), not later than three years after the establishment of any RRTC, NIDRR will conduct one or more reviews of the activities and achievements of the Center. In accordance with the provisions of 34 CFR 75.253(a), continued funding depends at all times on satisfactory performance and accomplishment.

Priority 1: Improving Vocational Rehabilitation Services for Individuals Who Are Blind or Have Severe Visual Impairments

Background

Based on 1996 worldwide population estimates, approximately 45 million persons are blind and 135 million have low vision (World Health Organization Programs for the Prevention of Blindness and Deafness, 1997). One in six Americans (17 percent) age 45 years or older, or 13.5 million middle-aged and older adults, reports some form of vision impairment even when wearing glasses or contact lenses (The Lighthouse Inc., 1995). Nationally, only 43.7 percent of persons age 21 to 64 who are visually impaired, defined as difficulty or inability to see words and letters, are employed. Among individuals unable to see words and letters, the figure decreases to 30.6 percent. This proportion is significantly lower than the estimated 80 percent of persons without disabilities in this age group who are employed (based on 1994-1995 estimates: McNeil, 1997; personal communication, November 16, 1996).

NIDRR published a Long-Range Plan (The Plan) which is based on a paradigm for rehabilitation that identifies disability in terms of its relationship between the individual and the natural, built, cultural, and social environment (63 FR 57189-57219). The Plan focuses on both individual and systemic factors that have an impact on the ability of individuals with disabilities to function.

In accord with this Plan, the Department will establish an RRTC whose mission is to conduct research and training activities designed to improve employment and career outcomes for individuals who are blind or have visual impairments through vocational rehabilitation, community rehabilitation, post-secondary education, and independent living services. Research and training activities under this RRTC must clearly focus on the vocational rehabilitation needs of adults, who, by definition, are the primary recipients of vocational rehabilitation services. Likewise, the RRTC should focus on individuals who are blind or have severe visual impairment, as opposed to those who have minimal vision loss.

With the passage of the Workforce Investment Act of 1998 (WIA) and the Work Incentive Improvement Act of 1998, vocational rehabilitation agencies were ensured a role in developing community partnerships and establishing vocational rehabilitation as a major part of the workforce development system and one-stop centers. As a result, vocational rehabilitation agencies are now collaborating with welfare to work programs, independent living centers, and colleges and technical schools. The influence of such collaboration upon vocational outcomes for individuals who are blind or have visual impairments remains unknown. Thus, there is a need to investigate and document the impact of changes in disability and employment legislation on the extent to which the vocational rehabilitation agencies address the unique employment needs of individuals who are blind and have visual impairments. Research should identify barriers that hinder the participation of individuals who are blind or have visual impairments in these evolving systems and develop and document effective strategies to eliminate such barriers.

Understanding the ongoing employment problems of individuals who are blind or have visual impairments has been hampered by the virtual absence of salient data such as work history, use of assistive techniques, transportation, and other environmental features. A subtle constraint is the tendency to “over attribute” problems to individuals' vision status without seriously examining the dynamics of vision loss in relation to other characteristics of the work they do or seek to do, and characteristics of their work settings. Thus, there is a serious need to identify and document salient demographic and employment-related characteristics associated with working-age adults who are blind or have visual impairments, including but not limited to highlighting differences among this group, as well as general differences between working-age adults with disabilities and working-age adults without disabilities. Research that results in contemporary and accurate data on employment status and an improved understanding of employment issues is critically important to the development of a national agenda and strategies to achieve full employment for individuals who are blind or have visual impairments.

New computer technologies and the growing trend toward home-based work appear to enhance the employment outcomes and earning potential of individuals with disabilities. New computer and information technologies place a premium on intellectual and interpersonal skills and offer solid employment opportunities for individuals with disabilities who remain current with the changing work environment. Efforts to support individuals who are blind or have visual impairments can be enhanced by using emerging technologies to improve access to services (particularly for individuals in remote areas), reduce information dissemination barriers, improve employment training and job opportunities, and facilitate improved training options for service providers. Research should be focused on determining how computer technology can be effectively used to improve the independence of individuals who are blind or visually impaired, identifying barriers that prevent access and expanded use of technology, and, increasing service provider knowledge of and experience with using technology to support rehabilitation service efforts.

Computer and information technology is changing rapidly. Rehabilitation professionals must have state-of-the-art knowledge of accessible computer and information technology for individuals who are blind or visually impaired. To address such a need, this RRTC will facilitate collaboration between the Rehabilitation Services Administration (RSA) and NIDRR to support the training of State vocational rehabilitation agency staff through use of a train the trainer model.

Since 1936 the Randolph-Sheppard Act has been a source of employment for individuals who are blind. This program enables individuals who are blind to become licensed facility managers and operate vending facilities on Federal and State property. According to RSA, in fiscal year 1999, 2,809 blind vendors operated 3,352 vending facilities under the Randolph-Sheppard Act Program. The program generated $448.1 million in gross earnings, with individual vendors averaging an annual income of $32,544. The RRTC should undertake an assessment to identify areas of the program that may be improved by training Business Enterprise Program counselors and licensed managers. The training is intended to foster the acquisition of improved skills by counselors and licensed managers and increase the capacity of the Business Enterprise Program to be competitive with other vending facilities.

Priority

We will establish a RRTC on improving vocational services for individuals who are blind or have visual impairments that will conduct research and training activities and develop and evaluate model approaches to improve the employment outcomes for such individuals. In carrying out this purpose, the center must:

(a) Investigate and document the impact of changes in disability and employment legislation on the ability to address the unique employment-related needs of individuals who are blind or have visual impairments (e.g., Workforce Investment Act of 1998, Rehabilitation Act Amendments of 1998) and service delivery options and policy (e.g., State and Federal VR, Community Rehabilitation Programs, One-Stop Centers, presumptive eligibility, order of selection, informed choice, CSPD) using formal research protocols on workforce participation and employment outcomes achieved by persons who are blind or have visual impairments and considering such factors as age, gender, race or ethnic background, education, severity of impairment, and secondary disability;

(b) Investigate, document, and analyze existent State and Federal data sets (e.g., RSA 911 data, NCHS data sets on population health conditions, the national Independent Living Center survey and the annual State-by-State VR agency data sets detailing performance outcomes), to determine different employment outcomes for persons who are blind or have visual impairments and the relationship of the outcomes to client and service provider characteristics (e.g., age of onset of blindness or visual impairment relative to successful employment outcomes);

(c) Investigate and document how State vocational rehabilitation agencies, other public agencies, and private service providers overcome environmental barriers (e.g., using assistive technology and jobsite modifications) in order to improve employment outcomes for individuals who are blind or have visual impairments; and

(d) Develop a national information and resource referral data base for the training needs of State business enterprise program facilities; develop and deliver training programs to meet the identified training needs; and develop measures that can be used to evaluate the efficacy of the training.

The RRTC must conduct at least three conferences to train vocational rehabilitation staff on state-of-the-art information and computer technology for individuals who are blind or have visual impairments.

In addition, the RRTC must:

• Involve individuals who are blind or have visual impairments and, if appropriate, their representatives, in planning, developing, and implementing the research, training, dissemination and evaluation activities of the RRTC;

• Coordinate with appropriate Federally funded projects; and

• Identify coordination responsibilities through consultation with the assigned NIDRR Project Officer. These responsibilities may include outreach to specific NIDRR Disability and Rehabilitation Research Projects, Rehabilitation Engineering and Research Centers, RRTCs, Disability Business and Technical Assistance Centers, Assistive Technology projects, Office of Special Education programs, and RSA projects.

Priority 2: Vocational Rehabilitation Services for Individuals Who Are Deaf or Hard of Hearing

Background

According to the National Center for Health Statistics (NCHS), approximately 8.6 percent of the national population experience hearing loss (Ries, 1994, Vital and Health Statistics, 10(188)). Using population projections for the year 2000 (U.S. Bureau of the Census, 1999, Statistical Abstract of the United States) and adjusting for the increase in prevalence of hearing loss due to aging, NCHS estimates that approximately 26.5 million persons experience hearing loss. Of these persons, 80 percent experience permanent, irreversible hearing damage (National Strategic Research Plan for Hearing and Hearing Impairment and Voice and Voice Disorders, National Institute on Deafness and Communicative Disorders, 1992). Furthermore, this population is quite heterogeneous, varying with respect to degree and type of hearing loss, age at onset, individual communication mode, level of personal or employment functionality and race or ethnic background. As a result, the population needs diverse vocational rehabilitation (VR) services.

Degree of hearing loss functionally distinguishes persons who are hard of hearing and persons who are deaf. Persons identified as hard of hearing may understand conversational speech with or without amplification and are not primarily dependent on visual communication (Rehabilitation Services Administration, 1995). Estimates indicate there are more than 10.5 million hard of hearing individuals of working age. Persons who are deaf are primarily dependent upon visual communication such as writing, text reading (also known as CART or computer-aided real-time translation), speech reading, sign language, and sign language interpreting. This population includes persons who are born deaf as well as those who become deaf later in life.

The age at which one becomes deaf strongly influences their language, academic and vocational development, and therefore figures prominently in that person's VR needs. Persons born deaf or who become deaf during early childhood are likely to need specialized services such as access to service providers who can communicate using American Sign Language or other visual-gesture languages and vocational assistance to enhance their employment prospects (Easterbrooks & Baker-Hawkins, Deaf and Hard of Hearing Students Educational Service Guidelines, National Association of State Directors of Special Education). Estimates indicate that there are approximately 479,000 deaf individuals of working age (18-64) who became deaf during early childhood.

Yet another category of individuals is those persons who become deaf after having experienced hearing as well as speech and language development. Members of this group may include people who have already completed substantial formal education, maintained a career, and generally functioned as a hearing person before being deafened. While these individuals already possess speech and language, they will be dependent primarily on visual receptive communication. Estimates indicate that there are approximately 2.8 million such individuals in the United States.

The population of persons who are deaf also includes a subgroup identified largely on the basis of functional needs in addition to hearing loss. This group of deaf persons has been described as “low functioning.” (Serving Individuals Who Are Low Functioning Deaf, 25th Institute on Rehabilitation Issues, Rehabilitation Services Administration, 1999). Persons who are deaf and low functioning vary with respect to rehabilitation needs due to a diagnosed secondary disability or related academic, language, or behavioral factors. Those individuals may require rehabilitation assistance in areas such as communication, education, independent living skills, and a full continuum of employment preparation, entry, and ongoing supports. Estimates of the population indicate that there are approximately 144,000 individuals of working age who are deaf and low functioning (25th Institute on Rehabilitation Issues, 1999).

When provided appropriate and effective VR services, deaf individuals whose level of social and vocational function is severely limited can obtain and maintain employment (Conway, Work Place Issues, Career Opportunities, Advancement and Deafness, Volta Review, 1995). Often, however, a broad range of services are needed, and these services must be provided in an accessible manner that recognizes individual communication needs and preferences (Conway, 1995). Among the cases closed by State VR agencies were 17,863, or 72.9 percent, closed as rehabilitated and 6,627, or 27.1 percent, closed as non-rehabilitated. Of the “rehabilitated” group closures, 77.4 percent were in competitive employment, 1.9 percent in extended employment, 2.6 percent in self-employment, and the balance in other employment sectors (RSA, Caseload Services data, 1996). Interestingly, close examination of closure rates for specific target groups indicate that deaf persons achieve employment at significantly lower percentages than their hard of hearing counterparts. Research is needed to address different services in order to obtain optimal outcomes. Despite this disparity in outcome, these data clearly document the role and contributions of the State and Federal VR system in providing services that lead to employment outcomes for significant numbers of individuals who are deaf.

Currently, the State and Federal VR system is undergoing significant change in response to conditions occurring in the labor market and the resulting need for workers. The labor force is characterized by economic growth, a low rate of unemployment, technological advances, and demand for jobs that require higher education and training. Plans to meet the State and local workforce needs of persons with disabilities, including persons who are deaf or hard of hearing, must be responsive to current thrusts in service delivery policy such as presumptive eligibility, continuing emphasis on order of selection, informed choice, one-stop service delivery, and increased demands for new approaches in training and personnel preparation (25th Institute on Rehabilitation Issues, 1999). It is clear that agencies will require significant technical assistance and resources in developing service models and approaches for serving special populations such as deaf and hard of hearing persons in response to these changes (Hopkins & Walter, 1999; PEPNet Needs Assessment: Summary of Findings, In Kolvitz, (Ed.), Empowerment through partnerships: PEPNet 1998; Boone & Watson, Identifying the Technical Assistance Needs of Community Based Rehabilitation Centers Serving Persons who are Deaf or Hard of Hearing, 1999). Research is needed to identify service delivery needs of persons who are deaf or hard of hearing and to develop interventions that result in satisfactory employment outcomes.

There is a clear need for ongoing research to maintain and improve successful employment and career outcomes resulting from VR, community rehabilitation, postsecondary education, and independent living services for persons who are deaf (NIDRR Long-Range Plan, 63 FR 57189-57219). Research under this competition must clearly focus on the VR needs of deaf individuals, including subgroups within this population with prevocational and post-vocational hearing loss, and those individuals identified as low functioning. There is need to examine decisionmaking processes as they impact upon deaf individuals and relevant others such as service providers, advocates, advisors, and family members, in relation to issues of access and participation by deaf and hard of hearing individuals in appropriate VR, postsecondary training, and independent living services. When such research analysis or mapping of decision processes and information sharing reveals problems, then appropriate resource development activities must be pursued, such as development of curriculum materials, training, evaluation, and technical assistance. In particular, strategies will be needed to involve new partners such as “one-stops” and centers for independent living, and underserved subgroups within the deaf and hard of hearing populations, such as those individuals described as low functioning and others with special needs. Research must investigate variables related to specific deafness and hard of hearing subgroups, services settings, measures of program participation, and measures of success within the changing policy, labor market, and service delivery environments.

Priority

We will establish an RRTC on VR services for individuals who are deaf or hard of hearing that will conduct research and training activities and develop and evaluate model approaches to improve the employment outcomes for such individuals. In carrying out this purpose, the center must:

(a) Investigate and document the impact of changes in disability and employment legislation (e.g., Workforce Investment Act of 1998, Rehabilitation Act Amendments of 1998) and service delivery options and policy (e.g., State and Federal VR, Community Rehabilitation Programs, One-Stop Centers, presumptive eligibility, order of selection, informed choice, CSPD) using formal research protocols on workforce participation and employment outcomes achieved by persons who are deaf or hard of hearing (including those identified as low functioning) and considering such factors as age, gender, race or ethnic background, education, severity of impairment, and secondary disability;

(b) Identify, evaluate, and document contemporary business policies and practices that contribute to accessible work, workplace supports, and environments to enhance the employment of persons who are deaf or hard of hearing;

(c) Identify, develop, and measure the impact of innovative rehabilitation practices, resource materials, post-secondary training, and technology (for State and Federal VR, Independent Living, and Community-based Rehabilitation Programs) that will enhance the workforce participation, employment, and community living outcomes achieved by persons who are deaf or hard of hearing; and

(d) Develop and disseminate resources through a national technical assistance, information, and referral network for consumers who are deaf or hard of hearing (including those referred to as low functioning deaf), their employers, advocates, family members, and rehabilitation service providers.

The RRTC must conduct at least three conferences to train vocational rehabilitation staff on state-of-the-art information and computer technology for individuals who are deaf or hard of hearing.

In addition, the RRTC must:

• Coordinate the activities of this Center with the efforts of other grantees from NIDRR, the Office of Special Education (OSEP), or RSA who are involved in postsecondary training, transition, job-related or vocational and career studies, independent living needs, and aspects of rehabilitation technology addressing the needs of persons who are deaf, particularly those referred to as low functioning deaf.

• Solicit and incorporate direct input from persons who are deaf, their service providers, and their employers as part of the ongoing planning, development, and implementation of the Center's research activities.

• Construct scientific and measurable techniques for each research project.

• Provide dissemination to rehabilitation professionals, through training and technical assistance of new and effective rehabilitation techniques and practices that may enhance service delivery, quality employment, and community integration findings.

• Develop sources for supplementary funding that will permit the Center more latitude in exploring additional related studies, in addition to the Federal monies available from this RRTC grant.

Applicable Program Regulations: 34 CFR part 350.

Program Authority: 29 U.S.C. 762(g) and 764(b)(2).

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of the document is published in the Federal Register. Free Internet access to the official edition of the Federal Register and the Code of Federal Regulations is available on GPO Access at: http://www.access.gpo.gov/nara/index.html

(Catalog of Federal Domestic Assistance Number 84.133B, Rehabilitation Research Training Center)
Dated: July 2, 2001.
Francis V. Corrigan,
Deputy Director, National Institute on Disability and Rehabilitation Research.

[FR Doc. 01-16984 Filed 7-5-01; 8:45 am]

BILLING CODE 4001-01-U